DEPARTMENT OF EDUCATION

[Docket No.: ED-2016-ICCD-0035]

Agency Information Collection Activities; Comment Request; Accrediting Agencies Reporting Activities for Institutions and Programs

AGENCY: Office of Postsecondary Education (OPE), Department of Education (ED).

ACTION: Notice.

SUMMARY: In accordance with the Paperwork Reduction Act of 1995 (44 U.S.C. chapter 3501 et seq.), ED is proposing a new information collection.

DATES: Interested persons are invited to submit comments on or before June 6, 2016.

ADDRESSES: To access and review all the documents related to the information collection listed in this notice, please use http://www.regulations.gov by searching the Docket ID number ED-2016-ICCD-0035. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-103, Washington, DC 20202-4537.

FOR FURTHER INFORMATION CONTACT: For specific questions related to collection activities, please contact Herman Bounds, 202-453-6128.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Accrediting Agencies Reporting Activities for Institutions and Programs.

OMB Control Number: 1840-NEW.

Type of Review: A new information collection.

Respondents/Affected Public: Private Sector.

Total Estimated Number of Annual Responses: 76.

Total Estimated Number of Annual Burden Hours: 200.

Abstract: The Secretary of Education is authorized by 34 CFR part 602 to recognize accrediting agencies to ensure that these agencies are, for the purposes of the Higher Education Act of 1965, as amended (HEA), or for other Federal purposes, reliable authorities regarding the quality of education or training offered by the institutions or programs they accredit. Federal regulations (34 CFR 602.26) outline information that accrediting agencies must report to the Department of Education on a timely basis in order to support the Department's oversight role, including information on accreditation actions taken with regard to institutions and programs. The proposed information collection will clarify the categories of actions taken by accreditors, the reporting required or requested on those actions, and the format for submitting the information.

The proposed information collection includes two items—a letter and an Excel spreadsheet. The Accreditor Letter on Terminology and Reporting is a draft of a letter the Department plans to send to accrediting agencies to clarify the information those agencies should submit to the Department. The excel spreadsheet is the mechanism through which the Department proposes agencies submit the information. Agencies are invited to review both items and provide comment to improve their clarity and usefulness. The Department will consider public comment and make revisions as necessary before issuing final versions.

This data is required to demonstrate compliance with criteria at 34 CFR part 602; State agencies for the approval of vocational education to demonstrate compliance with the criteria at 34 CFR part 603; State agencies for the approval of nurse education to demonstrate compliance with the criteria published in the 1969 Federal Register notice; foreign medical accrediting entities in accordance with criteria 34 CFR 600.55; and criteria established by Department staff to evaluate foreign veterinary accrediting organizations in accordance with 34 CFR 600.56.

Dated: March 31, 2016.
Kate Mullan,
Acting Director, Information Collection Clearance Division, Office of the Chief Privacy Officer, Office of Management.

[FR Doc. 2016-07701 Filed 4-4-16; 8:45 am]

BILLING CODE 4000-01-P